DEPARTMENT OF JUSTICE

Notice of Lodging of Consent Decree Under the Comprehensive Environmental Response, Compensation and Liability Act

Notice is hereby given that on August 9, 2003, a proposed Consent Decree in United States v. Haskell Chemical Company, Inc. et al., Civil Action No. 3:03CV642 was lodged with the United States District Court for the Eastern District of Virginia.

In this action the United States sought to recover costs incurred in responding to the release or threatened release of hazardous substances into the environment from the HH Burn Pit Superfund Site, located in Hanover County, Virginia, near the community of Farrington. The Consent Decree will recover past response costs from Haskell Chemical Company, Inc. and HH, Inc., a dissolved Virginia corporation. On behalf of HH, Inc., the trustees of the Liquidating for Assets and Liabilities of HH, Inc. will cause to be paid to the United States the sum of two hundred thirty-five thousand dollars ($235,000). Upon entry of this Consent Decree, Haskell Chemical Company, Inc. will pay to the United States the sum of one hundred thousand dollars ($100,000). Haskell Chemical Company, Inc. will also pay the additional sum of two hundred thousand dollars ($200,000), plus interest, to be paid to the United States in two annual installments, the first to occur one year after entry of the Consent Decree. In exchange for these payments, Haskell Chemical Company, Inc. and HH. Inc. will each receive a release from liability for past and future response costs incurred by the United States in connection with the Site, subject to certain limitations and conditions. In addition, Haskell Chemical Company, Inc. and HH. Inc. will each receive complete protection from contribution actions brought to recover costs incurred by any other party in connection with the Site.

The Department of Justice will receive for a period of thirty (30) days from the date of this publication comments relating to the Consent Decree. Comments should be addressed to the Assistant Attorney General, Environment and Natural Resources Division, PO Box 7611, U.S. Department of Justice, Washington, DC 20044-7611, and should refer to United States v. Haskell Chemical Company, Inc., et al., D.J. Ref. 90-11-3-1408/2.

The Consent Decree may be examined at the Office of the United States Attorney, 600 East Main Street, Suite 1800, Richmond, Virginia, and at U.S. EPA Region III, 1650 Arch Street, Philadelphia, Pennsylvania. During the public comment period, the Consent Decree may also be examined on the following Department of Justice Web site, http://www.usdoj.gov/enrd/open.html. A copy of the Consent Decree may also be obtained by mail from the Consent Decree Library, PO Box 7611, U.S. Department of Justice, Washington, DC. 20044-7611 or by faxing or e-mailing a request to Tonia Fleetwood (tonia.fleetwood@usdoj.gov), fax no. (202) 514-0097, phone confirmation number (202) 514-1547. In requesting a copy, please enclose a check in the amount of $9.75 (25 cents per page reproduction cost) payable to the U.S. Treasury.

Bruce Gelber,
Chief, Environmental Enforcement Section, Environment and Natural Resources Division.

[FR Doc. 03-22537 Filed 9-3-03; 8:45 am]

BILLING CODE 4410-15-M